DEPARTMENT OF TRANSPORTATION

Surface Transportation Board

[STB Finance Docket No. 34233]

Norfolk Southern Railway Company—Reinstitution of Service—Between Toledo and Maumee in Lucas County, OH

AGENCY: Surface Transportation Board, DOT.

ACTION: Notice of exemption.

SUMMARY: The Board grants an exemption under 49 U.S.C. 10502, from the prior approval requirements of 49 U.S.C. 10901, for the reinstitution of service by Norfolk Southern Railway Company (NSR) over 3.2 miles of the Toledo to Maumee branch line extending from milepost TM-9.3 in Toledo to milepost TM-12.5 near Maumee, in Lucas County, OH.

DATES: This exemption is effective April 16, 2003. Petitions to stay must be filed by April 1, 2003. Petitions to reopen must be filed by April 11, 2003.

ADDRESSES: An original and 10 copies of all pleadings, referring to STB Finance Docket No. 34233, must be filed with the Surface Transportation Board, 1925 K Street, NW., Washington, DC 20423-0001. In addition, one copy of all pleadings must be served on petitioner's representative, John V. Edwards, Norfolk Southern Corporation, Three Commercial Place, Norfolk, VA 23510-9241.

FOR FURTHER INFORMATION CONTACT: Beryl Gordon (202) 565-1600. (Assistance for the hearing impaired is available through the Federal Information Relay Service (FIRS) at 1-800-877-8339.)

SUPPLEMENTARY INFORMATION: Additional information is contained in the Board's decision. Copies of the decision may be purchased from Dā 2 Dā Legal Copy Service by calling (202) 293-7776 (assistance for the hearing impaired is available through FIRS at 1-800-877-8339) or by visiting Suite 405, 1925 K Street, NW., Washington, DC 20006.

Board decisions and notices are available on our Web site at http://www.stb.dot.gov.

Decided: March 11, 2003.
By the Board, Chairman Nober, Vice Chairman Burkes, and Commissioner Morgan.
Vernon A. Williams,
Secretary.

[FR Doc. 03-6284 Filed 3-14-03; 8:45 am]

BILLING CODE 4915-00-P